DEPARTMENT OF THE INTERIOR

National Park Service

[NPS-NER-SHEN-16985; PXPD203503C002]

Notice of Termination of the Environmental Impact Statement for a Chronic Wasting Disease Management Plan for Shenandoah National Park, Virginia

AGENCY: National Park Service, Interior.

ACTION: Terminate preparation of an environmental impact statement.

SUMMARY: The National Park Service (NPS) is terminating the preparation of an environmental impact statement (EIS) for a proposed Chronic Wasting Disease Management Plan at Shenandoah National Park. A Notice of Intent to Prepare the EIS was published in the Federal Register at 78 FR 13376 on February 27, 2013. Instead, the NPS has prepared an environmental assessment to amend its approved Chronic Wasting Disease Detection and Assessment Plan to include chronic wasting disease management actions.

ADDRESSES: The environmental assessment can be viewed at the NPS Planning, Environment and Public Comment (PEPC) Web site at: http://parkplanning.nps.gov/cwdplanamendment.

FOR FURTHER INFORMATION CONTACT: Jim Northup, Superintendent, Shenandoah National Park, 3655 U.S. Hwy 211 East, Luray, VA 22835.

SUPPLEMENTARY INFORMATION: In October 2013, the NPS approved a Chronic Wasting Disease Detection and Assessment Plan for the purpose of detecting the presence, and assessing the prevalence, of chronic wasting disease (CWD) within the boundaries of Shenandoah National Park (the park). The CWD Detection and Assessment Plan was evaluated in an environmental assessment (EA) that was released for public review in July 2012. Concurrent with the detection and assessment plan, the NPS initiated an EIS for long-term management of CWD within the park. The CWD management plan/EIS process focused on reducing deer density in specific areas as the most effective tool for managing CWD in the park. However, the results of scoping and preliminary analysis showed that the impacts of reducing deer density in specific areas for CWD management would not be substantially different than the impacts of the approved detection and assessment actions that were previously analyzed in the 2012 EA because the CWD Detection and Assessment Plan allows for the lethal removal of up to 300 deer for the purposes of detection and assessment, and specifies the same high deer density areas as proposed for managing CWD. The main differences are that density reductions may be done more frequently than lethal removals for detection or assessment, and there may be situations in which density reductions would be carried out concurrently with detection and assessment actions, which may increase the number of lethal removals but not to a level that changes the impacts or warrants analysis in an EIS. Therefore, the NPS determined that, rather than preparing a separate CWD management plan, the most efficient way to manage CWD would be to expand the range of management tools in the CWD Detection and Assessment Plan to include CWD response actions for the purpose of reducing the likelihood of establishment, and slowing the progression, of CWD within the park. The NPS further determined that an EA was the appropriate level of environmental review necessary to evaluate any differences in environmental impacts as a result of amending the approved CWD Detection and Assessment Plan to include CWD response actions.

Dated: February 12, 2015.
Michael A. Caldwell,
Regional Director, Northeast Region, National Park Service.

[FR Doc. 2015-03505 Filed 2-18-15; 8:45 am]

BILLING CODE 4310-WV-P